DEPARTMENT OF HEALTH AND HUMAN SERVICES

Centers for Disease Control and Prevention

Mine Safety and Health Research Advisory Committee; Notice of Charter Renewal

AGENCY: Centers for Disease Control and Prevention (CDC), Department of Health and Human Services (HHS).

ACTION: Notice of charter renewal.

SUMMARY: The Centers for Disease Control and Prevention (CDC), within the Department of Health and Human Services (HHS), announces the renewal of the charter of the Mine Safety and Health Research Advisory Committee (MSHRAC).

FOR FURTHER INFORMATION CONTACT: Robert Randolph, M.S., Designated Federal Officer, Mine Safety and Health Research Advisory Committee, Centers for Disease Control and Prevention, Department of Health and Human Services, 626 Cochrans Mill Road, Pittsburgh, Pennsylvania 15236. Telephone: (412) 386-4660; email: RRandolph@cdc.gov.

SUPPLEMENTARY INFORMATION: CDC is providing notice under 5 U.S.C. 1001-1014 of the renewal of the charter of the Mine Safety and Health Research Advisory Committee, Centers for Disease Control and Prevention, Department of Health and Human Services. This charter has been renewed for a two-year period through November 30, 2026.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-30408 Filed 12-19-24; 8:45 am]

BILLING CODE 4163-18-P